DEPARTMENT OF DEFENSE

Department of the Navy

[Docket ID USN-2022-HQ-0020]

Submission for OMB Review; Comment Request

AGENCY: Department of the Navy, Department of Defense (DoD).

ACTION: 30-Day information collection notice.

SUMMARY: The DoD has submitted to the Office of Management and Budget (OMB) for clearance the following proposal for collection of information under the provisions of the Paperwork Reduction Act.

DATES: Consideration will be given to all comments received by December 23, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION:

Title; Associated Form; and OMB Number: Navy Casualty Assistance Forms; OPNAV Forms 1770/1, 1770/2, and 1770/3; OMB Control Number 0703-0076.

Type of Request: Extension without change.

Number of Respondents: 800.

Responses per Respondent: 2.5.

Annual Responses: 2,000.

Average Burden per Response: 39 minutes.

Annual Burden Hours: 1,300.

Needs and Uses: Navy Personnel Command is the Secretary of the Navy's office for the certification and administration of benefits in the event a Sailor is declared Duty Status, Whereabouts Unknown (DUSTWUN), Missing, or deceased—or incurs injuries or illness classified as Serious or Very Serious. Information must be collected from Sailors' Next of Kin in order to appropriately provide benefits and entitlements, as well as process travel requests and release their contact information to members of Congress. Respondents for each of the forms are family members and other individuals pertaining to a Sailor who dies or becomes seriously ill or injured. Responses are collected using OPNAV Form 1770/1, “Consent to Release Information;” OPNAV Form 1770/2, “Next of Kin Travel Request;” and OPNAV Form 1770/3, “Next of Kin Information.” The forms are completed in the presence of a Casualty Assistance Calls Officer (CACO), and the completed forms are retained by the CACO for submission to Navy Personnel Command. OPNAV 1770/1 is completed by a spouse, parent, or child of majority of a deceased Sailor to provide written permission to release their contact information to a member of Congress for condolence purposes. OPNAV 1770/2 is completed by a qualifying family member if they desire to travel to a funeral or command memorial of a deceased Sailor or travel to the bedside of a seriously ill or injured Sailor. OPNAV 1770/3 is completed for each Next of Kin and beneficiary in a deceased case. The form is used to collect pertinent data in order to process claims for benefits and entitlements. Each form that requires completion is done so through an interactive session between the CACO and the family member. If the family member does not desire to complete a form at a certain meeting, the event is rescheduled. The CACO will not leave the form with the family to fill out—the Navy takes pride in direct assistance to family members, and the form is talked through and completed at a time convenient for the family member. Completed forms are forwarded to case managers at Navy Casualty, and stored electronically in the Defense Casualty Information Processing System.

Affected Public: Individuals or households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DoD Clearance Officer: Ms. Angela Duncan.

Requests for copies of the information collection proposal should be sent to Ms. Duncan at whs.mc-alex.esd.mbx.dd-dod-information-collections@mail.mil.

Dated: November 18, 2022.
Aaron T. Siegel,
Alternate OSD Federal Register Liaison Officer, Department of Defense.

[FR Doc. 2022-25578 Filed 11-22-22; 8:45 am]

BILLING CODE 5001-06-P